DEPARTMENT OF TRANSPORTATION

Federal Motor Carrier Safety Administration

[Docket No. FMCSA-2006-25586]

Agency Information Collection Activities; Request for Comment; Renewal of an Information Collection: Financial Responsibility for Motor Carriers of Passengers and Motor Carriers of Property

AGENCY: Federal Motor Carrier Safety Administration (FMCSA), DOT.

ACTION: Notice and request for comments.

SUMMARY: The FMCSA invites comments on its plan to request the Office of Management and Budget's (OMB) approval to renew an existing information collection. This information collection renewal will be used to assure that motor carriers of property and passengers maintain appropriate levels of financial responsibility to operate on public highways. This notice is required by the Paperwork Reduction Act of 1995.

DATES: Comments must be submitted on or before October 23, 2006.

ADDRESSES: All comments should reference Docket No. FMCSA-2006-25586. You may mail or hand deliver comments to the U.S. Department of Transportation, Dockets Management Facility, Room PL-401, 400 Seventh Street, SW., Washington, DC 20590; telefax comments to 202/493-2251; or submit electronically at http://dms.dot.gov. You may examine and copy all comments received at the above address between 9 a.m. and 5 p.m., Monday through Friday, except Federal holidays. If you desire your comment to be acknowledged, you must include a self-addressed stamped envelope or postcard or, if you submit your comments electronically, you may print the acknowledgment.

FOR FURTHER INFORMATION CONTACT: Ms. Stephanie Haller, Commercial Enforcement, phone (202) 385-2362; FAX (202) 385-2422; or e-mail stephanie.haller@fmcsa.dot.gov; Federal Motor Carrier Safety Administration, DOT, 400 Seventh Street, SW., Washington, DC 20590. Office hours are from 8 a.m. to 4:30 p.m., Monday through Friday, except Federal Holidays.

SUPPLEMENTARY INFORMATION: Title: Financial Responsibility for Motor Carriers of Passengers and Motor Carriers of Property.

OMB Control No: 2126-0008.

Background: The Secretary of Transportation is responsible for implementing regulations which establish minimal levels of financial responsibility for: (1) For-hire motor carriers of property to cover public liability, property damage, and environmental restoration, and (2) for-hire motor carriers of passengers to cover public liability and property damage. The Endorsement for Motor Carrier Policies of Insurance for Public Liability (Forms MCS-90/90B) and the Motor Carrier Public Liability Surety Bond (Forms MCS-82/82B) contain the minimum amount of information necessary to document that a motor carrier of property or passengers has obtained, and has in effect, the minimum levels of financial responsibility as set forth in applicable regulations (motor carriers of property—49 CFR 387.9; and motor carrier of passengers—49 CFR 387.33). FMCSA and the public can verify that a motor carrier of property or passengers has obtained, and has in effect, the required minimum levels of financial responsibility, by use of the information embraced within these documents.

Respondents: Insurance and surety companies of motor carriers of property (Forms MCS-90 and MCS-82) and motor carriers of passengers (Forms MCS-90B and MCS-82B).

Frequency: Upon creation, change, or replacement of an insurance policy or surety bond.

Estimated Average Burden per Response: The FMCSA estimates it takes two minutes to complete the Endorsement for Motor Carrier Policies of Insurances for Public Liability or the Motor Carrier Public Liability Surety Bond; one minute to file the Motor Carrier Public Liability Surety Bond; and one minute to place either document on board the vehicle (foreign-domiciled motor carriers only). These endorsements are maintained at the motor carrier's principal place of business (49 CFR 387.7 (iii) (d)).

Estimated Total Annual Burden Hours: 4,529 hours (4,528.84 rounded to nearest hour) [151.44 hours for motor carriers of passengers + 4,377.40 hours for motor carriers of property = 4,528.84].

Public Comments Invited: You are asked to comment on any aspect of this information collection, including: (1) Whether the proposed collection is necessary for the FMCSA's performance; (2) the accuracy of the estimated burden; (3) ways for the FMCSA to enhance the quality, usefulness, and clarity of the collected information; and (4) ways that the burden could be minimized without reducing the quality of the collected information. The agency will summarize and/or include your comments in the request for OMB's clearance of this information collection.

Issued on August 15, 2006.
John H. Hill,
Administrator.

[FR Doc. E6-13794 Filed 8-21-06; 8:45 am]

BILLING CODE 4910-EX-P